DEPARTMENT OF TRANSPORTATION

Federal Aviation Administration

RTCA Special Committee 159; Minimum Operational Performance Standards for Airborne Navigation Equipment Using Global Positioning System (GPS)

Pursuant to section 10(a)(2) of the Federal Advisory Committee Act (Pub. L. 92-463, 5 U.S.C., Appendix 2), notice is hereby given for a Special Committee 159 meeting to be held January 29-February 2, 2001, starting at 9 a.m. each day unless stated otherwise. The meeting will be held at RTCA, 1140 Connecticut Avenue, NW., Washington, DC 20026.

The agenda will include: Specific Working Group Sessions—January 29: Working Group (WG)-2C, GPS/Inertial; January 30: WG-2, GPS/WAAS; WG-4, Precision Landing Guidance (GPS/LAAS); WG-6, GPS/Interference; January 31: WG-2, GPS/WAAS; WG-4, Precision Landing Guidance (GPS/LAAS); WG-6, GPS/Interference; February 1: (1:30-4:30) WG-1, 3RD Civil Frequency; WG-4, Precision Landing Guidance (GPS/LAAS) (Editors Only); WG-5, Surface Surveillance; Ad Hoc Working Group, JHU/APL Report Response; February 2: Plenary Session: (1) Introductory Remarks; (2) Approve Summary of Previous Meeting; (3) Review Working Group (WG) Progress and Identify Issues for Resolution: (a) GPS/3RD Civil Frequency (WG-1); (b) GPS/WAAS (WG-2); (c) GPS/GLONASS (WG-2A); (d) GPS/Interial (WG-2C); (e) GPS/Precision Landing Guidance (WG-4); (f) GPS/Airport Surface surveillance (WG-5); (g) GPS Interference (WG-6); (h) SC-159 Ad Hoc; (4) Review of EUROCAE Activities; (5) Review/Approve Final Draft, revisions to RTCA DO-229B—Minimum Operational Performance Standards for Global Positioning System/Wide Area Augmentation System Airborne Equipment, RTCA Paper No. 407-00/SC159-883. (6) Assignment/Review of Future Work; (7) Other Business; (8) Date and Location of Next Meeting; (9) Closing.

Attendance is open to the interested public but limited to space availability. With the approval of the chairman, members of the public may present oral statements at the meeting. Persons wishing to present statements or obtain information should contact the RTCA Secretariat, at (202) 833-9339 (phone), (202) 833-9434 (fax). Members of the public may present a written statement to the committee at any time.

Issued in Washington, DC, on December 21, 2000.
Janice L. Peters,
Designated Official.

[FR Doc. 00-33187 Filed 12-27-00; 8:45 am]

BILLING CODE 4910-13-M